DEPARTMENT OF HOMELAND SECURITY

Federal Emergency Management Agency

[Docket ID FEMA-2016-0002; Internal Agency Docket No. FEMA-B-1604]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before July 5, 2016.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1604, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. For communities with multiple ongoing Preliminary studies, the studies can be identified by the unique project number and Preliminary FIRM date listed in the tables. Additionally, the current effective FIRM and FIS report for each community are accessible online through the FEMA Map Service Center at www.msc.fema.gov for comparison.

(Catalog of Federal Domestic Assistance No. 97.022, “Flood Insurance.”)

Dated: March 20, 2016.
Roy E. Wright,
Deputy Associate Administrator for Insurance and Mitigation, Department of Homeland Security, Federal Emergency Management Agency.

I. Watershed-based studies:

Community | Community map repository address
Santa Clara Watershed
Maps Available for Inspection Online at: http://www.fema.gov/preliminaryfloodhazarddata
Los Angeles County, California, and Incorporated Areas
City of Santa Clarita | 23920 Valencia Boulevard, Santa Clarita, CA 91355.
Unincorporated Areas of Los Angeles County | Public Works Headquarters, Watershed Management Division, 900 South Fremont Avenue, Alhambra, CA 91803.
Lower Missouri-Moreau Watershed
Maps Available for Inspection Online at: http://www.fema.gov/preliminaryfloodhazarddata
Boone County, Missouri, and Incorporated Areas
City of Columbia | City Hall, 701 East Broadway, Columbia, MO 65205.
City of Rocheport | City Hall, 703 First Street, Rocheport, MO 65279.
Town of McBaine | Boone County Government Center, Assessor's Office, 801 East Walnut Street, 1st Floor, Columbia, MO 65201.
Unincorporated Areas of Boone County | Boone County Government Center, Assessor's Office, 801 East Walnut Street, 1st Floor, Columbia, MO 65201.
Village of Hartsburg | Boone County Government Center, Assessor's Office, 801 East Walnut Street, 1st Floor, Columbia, MO 65201.
Village of Huntsdale | Boone County Government Center, Assessor's Office, 801 East Walnut Street, 1st Floor, Columbia, MO 65201.

II. Non-watershed-based studies:

Community | Community Map Repository Address
Humboldt County, California and Incorporated Areas
Maps Available for Inspection Online at: http://www.fema.gov/preliminaryfloodhazarddata
Project: 11-09-0847S Preliminary Date: October 27, 2015
City of Arcata | Department of Public Works, 736 F Street, Arcata, CA 95521.
City of Eureka | City Hall, 531 K Street, Eureka, CA 95501.
Town of Trinidad | Public Works Department, 409 Trinity Street, Trinidad, CA 95570.
Unincorporated Areas of Humboldt County | Clark Complex, 3015 H Street, Eureka, CA 95501.
Monterey County, California and Incorporated Areas
Maps Available for Inspection Online at: http://www.fema.gov/preliminaryfloodhazarddata
Project: 11-09-0854S Preliminary Date: November 13, 2015
City of Carmel By The Sea | City Hall, Monte Verde Street, Carmel By the Sea, CA 93921.
City of Marina | Public Works Department, 209 Cypress Avenue, Marina, CA 93933.
City of Monterey | Plans and Public Works Department, 526 Pierce Street, Monterey, CA 93940.
City of Pacific Grove | City Hall, 300 Forest Avenue, Pacific Grove, CA 93950.
City of Sand City | Planning Department, One Sylvan Park, Sand City, CA 93955.
City of Seaside | Public Works Department, 440 Harcourt Avenue, Seaside, CA 93955.
Unincorporated Areas of Monterey County | Monterey County Water Resources Agency, 893 Blanco Circle, Salinas, CA 93901.
City and County of San Francisco, California, and Incorporated Areas
Maps Available for Inspection Online at: http://www.fema.gov/preliminaryfloodhazarddata
Project: 11-09-1225S Preliminary Date: November 12, 2015
City and County of San Francisco | Office of the City Administrator, City Hall, Room 362, One Dr. Carlton B. Goodlett Place, San Francisco, CA 94102.
San Mateo County, California and Incorporated Areas
Maps Available for Inspection Online at: http://www.fema.gov/preliminaryfloodhazarddata
Project: 11-09-0852S Preliminary Date: August 13, 2015
City of Daly City | Public Works, Engineering Division, 333 90th Street, Daly City, CA 94015.
City of Half Moon Bay | City Hall, 501 Main Street, Half Moon Bay, CA 94019.
City of Pacifica | Engineering Division, 151 Milagra Drive, Pacifica, CA 94044.
Unincorporated Areas of San Mateo County | Planning and Building Department, 455 County Center, Redwood City, CA 94063.
San Mateo County, California and Incorporated Areas
Maps Available for Inspection Online at: http://www.fema.gov/preliminaryfloodhazarddata
Project: 11-09-1227S Preliminary Date: September 14, 2015
City of Belmont | Public Works Department, One Twin Pines Lane, Belmont, CA 94002.
City of Brisbane | Public Works, 50 Park Place, Brisbane, CA 94005.
City of Burlingame | City Hall, 501 Primrose Road, Burlingame, CA 94010.
City of East Palo Alto | Community and Economic Development Department, 1960 Tate Street, East Palo Alto, CA 94303.
City of Foster City | Public Works, 610 Foster City Boulevard, Foster City, CA 94404.
City of Menlo Park | City Hall, 701 Laurel Street, Menlo Park, CA 94025.
City of Millbrae | City Hall, 621 Magnolia Avenue, Millbrae, CA 94030.
City of Redwood City | City Hall, 1017 Middlefield Road, Redwood City, CA 94063.
City of San Bruno | Public Works, 567 El Camino Real, San Bruno, CA 94066.
City of San Carlos | Building Division, 600 Elm Street, San Carlos, CA 94070.
City of San Mateo | Public Works Department, 330 West 20th Avenue, San Mateo, CA 94403.
City of South San Francisco | City Hall, 400 Grand Avenue, South San Francisco, CA 94080.
Unincorporated Areas of San Mateo County | Planning and Building Department, 455 County Center, Redwood City, CA 94063.
Dallas County, Iowa, and Incorporated Areas
Maps Available for Inspection Online at: http://www.fema.gov/preliminaryfloodhazarddata
Project: 15-07-0900S Preliminary Date: June 22, 2015
City of Adel | City Hall, 301 South 10th Street, Adel, IA 50003.
City of Dallas Center | City Hall, 1502 Walnut Street, Dallas Center, IA 50063.
City of Dawson | City Hall, 208 South 1st Street, Dawson, IA 50066.
City of De Soto | City Hall, 405 Walnut Street, De Soto, IA 50069.
City of Dexter | City Hall, 911 State Street, Dexter, IA 50070.
City of Granger | City Hall, 1906 Main Street, Granger, IA 50109.
City of Perry | Building Official's Office, 1102 Willis Avenue, Perry, IA 50220.
City of Redfield | City Hall, 808 1st Street, Redfield, IA 50233.
City of Van Meter | City Hall, 310 Mill Street, Van Meter, IA 50261.
City of Waukee | City Hall, 230 West Hickman Road, Waukee, IA 50263.
City of Woodward | City Hall, 105 East 2nd Street, Woodward, IA 50276.
Unincorporated Areas of Dallas County | Dallas County Planning and Development Department, Director's Office, 907 Court Street, Adel, IA 50003.
Warren County, Iowa, and Incorporated Areas
Maps Available for Inspection Online at: http://www.fema.gov/preliminaryfloodhazarddata
Project: 15-07-0898S Preliminary Date: June 22, 2015
City of Ackworth | City Hall, 106 East Main Street, Ackworth, IA 50001.
City of Bevington | City Hall, 202 Jefferson Street, Bevington, IA 50033.
City of Carlisle | City Hall, 195 North 1st Street, Carlisle, IA 50047.
City of Des Moines | Permit and Development Center, 602 Robert D. Ray Drive, Des Moines, IA 50309.
City of Hartford | City Hall, 150 West Elm Street, Hartford, IA 50118.
City of Indianola | City Hall, 110 North 1st Street, Indianola, IA 50125.
City of Lacona | City Hall, 109 East Main Street, Lacona, IA 50139.
City of Martensdale | City Hall, 380 Iowa Avenue, Martensdale, IA 50160.
City of Norwalk | City Planner's Office, 705 North Avenue, Norwalk, IA 50211.
City of Spring Hill | City Clerk's Office, 2033 2nd Street, Spring Hill, IA 50125.
Unincorporated Areas of Warren County | Warren County Administration Building, 301 North Buxton Street, Indianola, IA 50125.
Madison County, Iowa and Incorporated Areas
Maps Available for Inspection Online at: http://www.fema.gov/preliminaryfloodhazarddata
Project: 15-07-0897S Preliminary Date: May 18, 2015
City of Earlham | City Hall, 140 South Chestnut Avenue, Earlham, IA 50072.
City of East Peru | Community Building, 120 Brown Street, East Peru, IA 50222.
City of Patterson | Patterson City Clerk's Office, 1730 110th Avenue, Murray, IA 50174.
City of St. Charles | City Hall, 113 South Lumber Street, St. Charles, IA 50240.
City of Truro | City Hall, 120 East Center Street, Truro, IA 50257.
City of Winterset | City Hall, 124 West Court Avenue, Winterset, IA 50273.
Unincorporated Areas of Madison County | Madison County Courthouse, 112 North John Wayne Drive, Winterset, IA 50273.
Sandusky County, Ohio and Incorporated Areas
Maps Available for Inspection Online at: http://www.fema.gov/preliminaryfloodhazarddata
Project: 11-05-5340S Preliminary Dates: July 17, 2015 and December 9, 2015
City of Fremont | 323 South Front Street, Fremont, OH 43420.
Unincorporated Areas of Sandusky County | 108 South Park Avenue, Fremont, OH 43420.

[FR Doc. 2016-07495 Filed 4-1-16; 8:45 am]

BILLING CODE 9110-12-P